DEPARTMENT OF ENERGY

Federal Energy Regulatory Commission

[Project No. 8377-030]

Isabella Partners; Notice of Intent To Prepare an Environmental Assessment

On February 20, 2024, Isabella Partners (licensee) filed an application for a capacity amendment for the Isabella Hydroelectric Project No. 8377. The project is located on the Kern River in Kern County, California at the U.S. Army Corps of Engineers (Corps)' Isabella Dam on lands administered by the Corps.

Isabella Partners proposes to construct and operate a new 5-megawatt (MW) generating unit which would be located in a new 40-foot-by-45-foot concrete structure adjacent to the existing powerhouse, resulting in an increase of the project's total installed capacity from 12.8 MW to 17.8 MW. Currently, flows greater than the 100 cubic feet per second (cfs) capacity of Unit 3 and less than the 500 cfs minimum operating range of Units 1 and 2 are discharged through the existing bypass channel. The proposed 5-MW addition (Unit 4) would allow Isabella Partners to generate power at flows between 100 and 500 cfs. Water released from the proposed unit would be discharged through the existing tailrace. Isabella Partners would continue to operate the project under the 1993 Corps Memorandum of Agreement and there would be no changes in water releases to the Kern River as a result of the proposed action.

On June 18, 2024, the Commission issued a public notice for the proposed amendment. On July 17, 2024, the California State Water Resources Control Board filed a motion to intervene.

This notice identifies Commission staff's intention to prepare an environmental assessment (EA) for the project.¹ The planned schedule for the completion of the EA is June 9, 2025. Revisions to the schedule may be made as appropriate. The EA will be issued and made available for review by all interested parties and a 30-day public comment period. All comments filed on the EA will be reviewed by staff and considered in the Commission's final decision on the proceeding.

¹ In accordance with the Council on Environmental Quality's regulations, the unique identification number for documents relating to this environmental review is EAXX-019-20-000-1725634364. 40 CFR 1501.5(c)(4) (2024).

The Commission's Office of Public Participation (OPP) supports meaningful public engagement and participation in Commission proceedings. OPP can help members of the public, including landowners, environmental justice communities, Tribal members, and others to access publicly available information and navigate Commission processes. For public inquiries and assistance with making filings such as interventions, comments, or requests for rehearing, the public is encouraged to contact OPP at (202) 502-6595 or OPP@ferc.gov.

Any questions regarding this notice may be directed to Zeena Aljibury at 202-502-6065 or zeena.aljibury@ferc.gov.

Dated: September 23, 2024.
Debbie-Anne A. Reese,
Acting Secretary.

[FR Doc. 2024-22226 Filed 9-26-24; 8:45 am]

BILLING CODE 6717-01-P